DEPARTMENT OF VETERANS AFFAIRS

[OMB Control No. 2900-0718]

Agency Information Collection Activity Under OMB Review: Yellow Ribbon Program Agreement and Principles of Excellence for Educational Institutions

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0718.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0718” in any correspondence.

SUPPLEMENTARY INFORMATION:

Authority: Title 38 United States Code (U.S.C.) 3317 and Executive Order 13607.

Title: Yellow Ribbon Program Agreement and Principles of Excellence for Educational Institutions, VA Form 22-0839 and VA Form 22-10275.

OMB Control Number: 2900-0718.

Type of Review: Revision of a currently approved collection.

Abstract: These forms will be used to satisfy requirements as outlined. VA Form 22-0839, Yellow Ribbon Program Agreement, is sanctioned by Public Law 110-252 which authorized the Department of Veterans Affairs (VA) to administer an education benefit program known as the Post-9/11 GI Bill. Section 3317 of title 38, United States Code, established the Yellow Ribbon G.I. Enhancement Program, referred to as the “Yellow Ribbon Program”. The Yellow Ribbon Program allows Institutions of Higher Learning (IHLs) to voluntarily enter into an agreement with VA to commit to contributing towards the outstanding amount of tuition and fees not otherwise covered under the Post-9/11 GI Bill. VA will match the contribution made by the IHL not to exceed fifty percent of the total outstanding amount of tuition and fees. IHLs wishing to participate in the Yellow Ribbon Program are required to submit the Yellow Ribbon Program Agreement (VA Form 22-0839) indicating the maximum number of students that can receive this additional benefit under the program, the maximum contribution towards outstanding tuition and fees for each student based on student status (i.e., undergraduate, graduate, doctoral) or sub-element (i.e. college or professional school). Title 38 U.S.C 3317 necessitates this collection of information. VA Form 22-10275, Principles of Excellence for Educational Institution is authorized by Executive Order 13607. Participating schools commit to voluntarily follow the guidelines outlined in Executive Order 13607 intended to promote transparency and student success. Currently, the VA Form 22-0839 includes the Principles of Excellence (POE) application, but because only degree granting schools can participate in the Yellow Ribbon Program, non-degree granting schools are disadvantaged. Further the Yellow Ribbon Program Participation is only solicited during an annual `open season' from March to May, POE participation is further restricted. VA Form 22-10275 will be made available year-round. Executive Order 13607 necessitates this collection of information. A respondent need only file a Yellow Ribbon Agreement once therefore the burden cannot be decreased further. If the information is not collected, VA will not be able to administer the provisions of the Yellow Ribbon Program as mandated by statute. Similarly, a respondent needs only a single form to elect to participate in the Principles of Excellence.

An agency may not conduct or sponsor, and a person is not required to respond to a collection of information unless it displays a currently valid OMB control number. The Federal Register Notice with a 60-day comment period soliciting comments on this collection of information was published at 87 FR 39161 on June 30, 2022, Pages 39161 and 39162.

Affected Public: Individuals or Households.

Estimated Annual Burden: 25,928 total hours.

Estimated Average Burden Time per Respondent: 14 hours.

Frequency of Response: Once per form type.

Estimated Number of Respondents: 1,852.

By direction of the Secretary:
Maribel Aponte,
VA PRA Clearance Officer, Office of Enterprise and Integration, Data Governance Analytics, Department of Veterans Affairs.

[FR Doc. 2022-19066 Filed 9-9-22; 8:45 am]

BILLING CODE 8320-01-P